DEPARTMENT OF AGRICULTURE

Forest Service

Mark Twain National Forest; Missouri; Integrated Non-Native Invasive Plant Project

AGENCY: Forest Service, USDA.

ACTION: Notice of intent to prepare an environmental impact statement.

SUMMARY: The Mark Twain National Forest (MTNF) proposes to implement an integrated Forest-wide management strategy to control the spread of non-native invasive plants (NNIP) within the National Forest over the next 10 years, or until circumstances change to the point that the analysis is no longer valid. The proposal utilizes several management tools, including registered herbicides, bio-agents, and manual/mechanical methods.

DATES: Comments concerning the scope of the analysis must be received by October 4, 2010. The draft environmental impact statement is expected November 2010 and the final environmental impact statement is expected March 2011.

ADDRESSES: Send written comments to Integrated NNIP Project, 401 Fairgrounds Road, Rolla, MO 65401. Comments may also be sent via e-mail to mailroom_r9_mark_twain@fs.fed.us, or via facsimile to (573) 364-6844.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Brian K Davidson, 401 Fairgrounds Road, Rolla, MO 65401.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to protect and restore naturally-functioning native ecosystems on the MTNF by controlling current and future threats of NNIP infestations. Control means, as appropriate, eradicating, suppressing, reducing, or managing NNIP populations, preventing the spread of NNIP, and taking steps such as restoration of native species and habitats to reduce the effects of invasive species and to prevent further invasions (Executive Order 13112 invasive species). Resiliency, integrity, and sustainability of a variety of ecosystems on the MTNF could be compromised if NNIP infestations continue to spread. This proposal is needed because existing populations of NNIP currently occur on the MTNF and are degrading natural communities. Inventoried and new or unknown infestations continue to spread unchecked. Past projects to control invasive plants on the MTNF have been authorized as small portions of larger vegetation management projects. Those limited actions have not been able to keep pace with the extent in which several NNIP species spread and encroach into new areas. Species such as garlic mustard, spotted knapweed, and Sericea lespedeza are too wide-spread and aggressive to address individually or at a smaller project level in order to be successful.

Proposed Action

The MTNF proposes to implement an integrated program for the prevention, eradication, suppression, and reduction of existing and future NNIP infestations on the forest. The integrated approach considers the best available scientific information, most current NNIP inventories, and the effectiveness of control methods designed to meet desired treatment objectives to control NNIP infestations on National Forest System lands with the MTNF boundaries. These control methods would include various combinations of manual, mechanical, chemical, cultural, and biological treatments.

Cooperating Agencies

Missouri Department of Conservation (MDC) is a cooperating agency with the MTNF, the lead agency, on this proposal.

Responsible Official

The forest supervisor of the Mark Twian National Forest is the responsible official.

Nature of Decision To Be Made

The forest supervisor will make a decision on whether to implement the Integrated NNIP strategy on National Forest System land as proposed, an alternative, or no action.

Preliminary Issues

The interdisciplinary team has identified preliminary issues. Unintended detrimental environmental effects to non-target species could result from the application of herbicide or release of bio-agents. The application of herbicide could result in an increase of toxic chemicals in groundwater.

Scoping Process

Typically, this notice of intent initiates the scoping process, which guides the development of the environmental impact statement. Scoping for this project began in November 2009 with a letter to the public and posting of information to MTNF world wide Web site. Four comment letters were received in response to that solicitation. Those comments will be incorporated into the analysis for this EIS.

It is important that reviewers provide their comments at such times and in such manner that they are useful to the agency's preparation of the environmental impact statement. Therefore, comments should be provided prior to the close of the comment period and should clearly articulate the reviewer's concerns and contentions.

Dated: August 23, 2010.
David C. Whittekiend,
Forest Supervisor.

[FR Doc. 2010-22820 Filed 9-13-10; 8:45 am]

BILLING CODE 3410-11-P